GENERAL SERVICES ADMINISTRATION

[Wildlife Order 188; 9-I-CA-1674]

Public Buildings Service; Prospect Island, Sacramento Delta, Solano County, CA; Transfer of Property

Pursuant to section 2 of Public Law 537, 80th Congress, approved May 19, 1948 (16 U.S.C. 667c), notice is hereby given that:

1. The General Services Administration transferred 1253 acres of land identified as Prospect Island, Sacramento Delta, Solano County, California to the State of California, Department of Water Resources by deed dated December 16, 2009.

2. The above property was conveyed for wildlife conservation in accordance with the provisions of section 1 of Public Law 80-537 (16 U.S.C. 667b), as amended by Public Law 92-432.

FOR FURTHER INFORMATION CONTACT: Mr. Clark Van Epps, Director of the Real Property Disposal Division (9PZ), by phone on (415) 522-3420.

Dated: April 6, 2010.
Gordon S. Creed,
Acting Deputy Assistant Commissioner, Office of Real Property Utilization & Disposal.

[FR Doc. 2010-8990 Filed 4-19-10; 8:45 am]

BILLING CODE 6820-96-P